DEPARTMENT OF THE TREASURY

Internal Revenue Service

Open Meeting of the Taxpayer Advocacy Panel's Joint Committee

AGENCY: Internal Revenue Service (IRS), Treasury.

ACTION: Notice of meeting.

SUMMARY: An open meeting of the Taxpayer Advocacy Panel's Joint Committee Project Committee will be conducted. The Taxpayer Advocacy Panel is soliciting public comments, ideas, and suggestions to improve customer service at the Internal Revenue Service. This meeting will be held as a virtual video conference via the Microsoft Teams platform. In exceptional circumstances, such as a lapse in appropriations, the agency or an independent Presidential advisory committee may give less than 15 calendar days notice. That is the case for this meeting.

DATES: The meeting will be held Tuesday, November 25, 2025, at 1:00 p.m. Eastern Time.

FOR FURTHER INFORMATION CONTACT: Rosalind Matherne at 1-888-912-1227, 202-317-4115, or by email at taxpayer.advocacy.panel@irs.gov.

SUPPLEMENTARY INFORMATION: Notice is hereby given pursuant to Section 10(a)(2) of the Federal Advisory Committee Act, 5 U.S.C. App. (1988), that an open meeting of the Taxpayer Advocacy Panel Joint Committee Project Committee will be held on Tuesday, November 25, 2025, at 1:00 p.m. Eastern Time.

The public is invited to attend the meeting virtually, or by phone, and may provide oral comments or submit written statements for consideration. Due to meeting structure and time limitations, advance registration is required to attend or make public comments during the meeting. To register and receive meeting access information, please contact Rosalind Matherne at the contact information above no later than Friday, November 21, 2025.

Meeting materials, including the agenda and any handouts, will be made available prior to the meeting at www.improveirs.org.

The agenda will include a committee discussion of new and continuing issues and other activities related to the new TAP year.

Dated: November 17, 2025.
John A. Lipold,
Designated Federal Official, Taxpayer Advocacy Panel.

[FR Doc. 2025-20298 Filed 11-18-25; 8:45 am]

BILLING CODE;P